DEPARTMENT OF VETERANS AFFAIRS

[OMB Control No. 2900-0176]

Agency Information Collection Activity: Certification of Training Hours, Wages, and Progress; Withdrawn

AGENCY: Veterans Benefits Administration, Department of Veterans Affairs.

ACTION: Notice; withdrawal.

SUMMARY: On Wednesday, February 8, 2023, the Veterans Benefits Administration (VA), published a notice in the Federal Register announcing an opportunity for public comment on the proposed collection Certification of Training Hours, Wages, and Progress (VA Form 28-1905c). This notice was published in error; therefore, this document corrects that error by withdrawing this FR notice, document number 2023-02693.

DATES: As of Wednesday, February 15, 2023, the FR notice published at 88, FR 26, page 8343 on Wednesday, February 8, 2023, is withdrawn.

FOR FURTHER INFORMATION CONTACT: Maribel Aponte, Office of Enterprise and Integration, Data Governance Analytics (008), 810 Vermont Ave. NW, Washington, DC 20006, (202) 266-4688 or email maribel.aponte@va.gov.

SUPPLEMENTARY INFORMATION: FR Doc. 2023-02693, published on Wednesday, February 8, 2023 (88 FR 26, page 8343), is withdrawn by this notice.

By direction of the Secretary.
Maribel Aponte,
VA PRA Clearance Officer, Office of Enterprise and Integration/Data Governance Analytics, Department of Veterans Affairs.

[FR Doc. 2023-03443 Filed 2-16-23; 8:45 am]

BILLING CODE 8320-01-P